DEPARTMENT OF HEALTH AND HUMAN SERVICES

Health Resources and Services Administration

Advisory Committee on Training in Primary Care Medicine and Dentistry

AGENCY: Health Resources and Services Administration, HHS.

ACTION: Notice of meeting cancellation.

SUMMARY: Notice is hereby given of the cancellation of the Advisory Committee on Training in Primary Care Medicine and Dentistry, November 15, 2010, 8:30 a.m. to 4:30 p.m., and November 16, 2010, 8 a.m. to 2 p.m., at the Hilton Washington DC/Rockville Executive Meeting Center, 1750 Rockville Pike, Rockville, MD 20910, which was published in the Federal Register on October 19, 2010, FR Doc. 2010-26205 (75 FR 64318).

Dated: November 8, 2010.
Robert Hendricks,
Director, Division of Policy and Information Coordination.

[FR Doc. 2010-28693 Filed 11-10-10; 4:15 pm]

BILLING CODE P